DEPARTMENT OF ENERGY

Federal Energy Regulatory Commission

[Docket No. ER000-1770-000]

Conectiv Energy Supply, Inc.; Notice of Issuance of Order

May 2, 2000.

On March 1, 2000, Conectiv, on behalf of its affiliates, Conectiv Delmarva Generation, LLC (CDG) and Conective Atlantic Generation, LLC (CAG) filed under section 205 of the Federal Power Act proposed market-based rates tariffs. In its filing, Conectiv also requested certain waivers and authorizations for CDG and CAG. In particular, Conectiv requested that the Commission grant blanket approval under 18 CFR Part 34 of all future issuances of securities and assumptions of liabilities by CDG and CAG. On April 25, 2000, the Commission issued an Order Accepting For Filing Proposed Service Agreements And Market-Based Rates (Order), in the above-docketed proceeding.

The Commission's April 25, 2000 Order granted the request for blanket approval under Part 34, subject to the conditions found in Ordering Paragraphs (C), (D), and (F):

(C) Within 30 days of the date of this order, any person desiring to be heard or to protest the Commission's blanket approval of issuances of securities or assumptions of liabilities by CDG or CAG should file a motion to intervene or protest with the Federal Energy Regulatory Commission, 888 First Street, N.E., Washington, D.C. 20426, in accordance with Rules 211 and 214 of the Commission's Rules of Practice and Procedure, 18 CFR 385.211 and 385.214.

(D) Absent a request to be heard within the period set forth in Ordering Paragraph (C) above, CDG and CAG are hereby authorized to issue securities and assume obligations and liabilities as guarantor, indorser, surety or otherwise in respect of any security of another person; provided that such issue or assumption is for some lawful object within the corporate purposes of CDG and CAG compatible with the public interest, and reasonably necessary or appropriate for such purposes.

(F) The Commission reserves the right to modify this order to require a further showing that neither public nor private interests will be adversely affected by continued Commission approval of CDG's and CAG's issuances of securities or assumptions of liabilities.

Notice is hereby given that the deadline for filing motions to intervene or protests, as set forth above, is May 25, 2000.

Copies of the full text of the Order are available from the Commission's Public Reference Branch, 888 First Street, N.E., Washington, D.C. 20426. The Order may also be viewed on the Internet at ­http://www.ferc.fed.us/online/rims.htm (call 202-208-2222 for assistance).

David P. Borgers,
Secretary.

[FR Doc. 00-11351 Filed 5-5-00; 8:45 am]

BILLING CODE 6717-01-M